ENVIRONMENTAL PROTECTION AGENCY

[FRL-9291-8 ]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1564.08; NSPS for Small Industrial-Commercial-Institutional Steam Generating Units; 40 CFR part 60, subparts A and Dc; was approved on 03/02/2011; OMB Number 2060-0202; expires on 03/31/2014; Approved without change.

EPA ICR Number 1078.09; NSPS for Phosphate Rock Plants; 40 CFR part 60, subparts A and NN; was approved on 03/02/2011; OMB Number 2060-0111; expires on 03/31/2014; Approved without change.

EPA ICR Number 1053.10; NSPS for Electric Utility Steam Generating Units; 40 CFR part 60, subparts A and Da; was approved on 03/02/2011; OMB Number 2060-0023; expires on 03/31/2014; Approved without change.

EPA ICR Number 1158.10; NSPS for Rubber Tire Manufacturing; 40 CFR part 60, subparts A and BBB; was approved on 03/02/2011; OMB Number 2060-0156; expires on 03/31/2014; Approved without change.

EPA ICR Number 1086.09; NSPS for Onshore Natural Gas Processing Plants; 40 CFR part 60, subparts A, KKK and LLL, was approved on 03/02/2011; OMB Number 2060-0120; expires on 03/31/2014; Approved without change.

EPA ICR Number 1587.11; State Operating Permit Regulations; 40 CFR part 70; was approved on 03/02/2011; OMB Number 2060-0243; expires on 04/30/2012; Approved without change.

EPA ICR Number 1812.04; Annual Public Water Systems Compliance Report (Reinstatement); was approved on 03/03/2011; OMB Number 2020-0020; expires on 03/31/2014; Approved with change.

EPA ICR Number 1808.06; Environmental Impact Assessment of Nongovernmental Activities in Antarctica (Renewal); 40 CFR part 8; was approved on 03/04/2011; OMB Number 2020-0007; expires on 03/31/2014; Approved without change.

EPA ICR Number 0193.10; NESHAP for Beryllium; 40 CFR part 61, subparts A and C; was approved on 03/07/2011; OMB Number 2060-0092; expires on 03/31/2014; Approved without change.

EPA ICR Number 2072.04; NESHAP for Lime Manufacturing; 40 CFR part 63, subparts A and AAAAA; was approved on 03/09/2011; OMB Number 2060-0544; expires on 03/31/2014; Approved with change.

EPA ICR Number 1049.12; Notification of Episodic Releases of Oil and Hazardous Substances (Renewal); 40 CFR parts 110, 117 and 302, was approved on 03/09/2011; OMB Number 2050-0046; expires on 03/31/2014; Approved without change.

EPA ICR Number 1249.09; Requirements for Certified Applicators Using 1080 Collars for Livestock Protection; was approved on 03/09/2011; OMB Number 2070-0074; expires on 03/31/2014; Approved without change.

EPA ICR Number 2364.03; Alternative Affirmative Defense Requirements for Ultra-low Sulfur Diesel (Renewal); 40 CFR 80.613; was approved on 03/14/2011; OMB Number 2060-0639; expires on 03/31/2014; Approved without change.

EPA ICR Number 2411.01; NSPS and NESHAP for Petroleum Refineries Sector Residual Risk and Technology Review (New Collection); was approved on 03/28/2011; OMB Number 2060-0657; expires on 03/31/2014; Approved with change.

EPA ICR Number 0657.10; NSPS for Graphic Arts Industry; 40 CFR part 60, subparts A and QQ; was approved on 03/29/2011; OMB Number 2060-0105; expires on 03/31/2014; Approved with change.

EPA ICR Number 1063.11; NSPS for Sewage Sludge Treatment Plants; 40 CFR part 60, subparts A and O; was approved on 03/29/2011; OMB Number 2060-0035; expires on 03/31/2014; Approved with change.

EPA ICR Number 1442.21; Land Disposal Restrictions (Renewal); 40 CFR part 268; was approved on 03/29/2011; OMB Number 2050-0085; expires on 03/31/2014; Approved without change.

EPA ICR Number 0783.58; Motor Vehicle Emissions and Fuel Economy Compliance: Light Duty Vehicles, Light Duty Trucks, and Highway Motorcycles (Change Worksheet); 40 CFR parts 85 and 86; 40 CFR 85.1901-85.1908; 40 CFR 86.1845-86.1848; 40 CFR part 600, subparts E and F; was approved on 03/29/2011; OMB Number 2060-0104; expires on 08/31/2012; Approved without change.

Comment Filed

EPA ICR Number 0940.23; Ambient Air Quality Surveillance (Proposal for CO NAAQS); in 40 CFR part 58; OMB filed comment on 03/02/2011.

EPA ICR Number 1716.07; NESHAP for Wood Furniture Manufacturing Operations; in 40 CFR part 63, subparts A and JJ; OMB filed comment on 03/07/2011.

Dated: April 4, 2011.
John Moses,
Director, Collections Strategies Division.

[FR Doc. 2011-8425 Filed 4-7-11; 8:45 am]

BILLING CODE 6560-50-P